DEPARTMENT OF TRANSPORTATION

Federal Railroad Administration

Notification of Extension of Comment Period

In accordance with 49 Code of Federal Regulations (CFR) 236.913(e)(1), the Federal Railroad Administration (FRA) gave notice that it had received a petition for approval of a Product Safety Plan (PSP) from BNSF Railway Company (BNSF), submitted pursuant to 49 CFR part 236, subpart H. 71 FR 11014. FRA placed the PSP and supporting documentation in Docket Number FRA-2006-23687. FRA also gave notice that it would accept comments on the petition for approval for the PSP, as required by 49 CFR 236.913(e)(2) for 90 days subsequent to the publication of the notice. That comment period ended on May 31, 2006. FRA is reopening the docket for comment to allow the public time to analyze and comment on revisions to that PSP and supporting documents recently submitted by BNSF in response to the FRA letter of March 8, 2006 (Docket Number FRA-2006-23687-7).

Interested parties are invited to participate in this safety review by providing written information or comments pertinent to FRA's consideration of the above petition for approval of a Product Safety Plan. All communications concerning this safety review should identify the appropriate docket number (e.g., Petition for Approval Docket Number FRA-2006-23687) and must be submitted to the Docket Clerk, DOT Central Docket Management Facility, Room PL-401, Washington, DC 20590-0001. Communication received within 30 days of the date of this notice will be considered by FRA to the extent practicable. All written communications concerning this safety review are available for examination during regular business hours (9 a.m.-5 p.m.) at the above facility. All documents in the public docket are also available for inspection and copying on the Internet at the docket facility's Web site at http://dms.dot.gov.

Anyone is able to search the electronic form of all the comments received into any of our dockets by the name of the individual submitting the comment (or signing the comment on behalf of an association, business, labor union, etc.). You may review DOT's complete Privacy Act Statement in the Federal Register published on April 11, 2000 (Volume 65, Number 70; Pages 19477-78). The Statement may also be found at http://dms.dot.gov.

Issued in Washington, DC on June 30, 2006.
Grady C. Cothen Jr.,
Deputy Associate Administrator for Safety Standards and Program Development.

[FR Doc. E6-10647 Filed 7-6-06; 8:45 am]

BILLING CODE 4910-06-P